DEPARTMENT OF TRANSPORTATION

Maritime Administration

[Docket No. MARAD-2023-0197]

Request for Comments on the Renewal of a Previously Approved Information Collection War Risk Insurance, Applications, and Related Information

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0011 (War Risk Insurance, Applications, and Related Information) is used to determine the eligibility of the applicant and the vessel(s) for participation in the War Risk Insurance Program. There are no changes to this collection since the last renewal. We are required to publish this notice in the Federal Register to obtain comments from the public and affected agencies. A 60-day notice Federal Register soliciting comments on this information collection was published on August 14, 2023.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Cameryn L. Miller, (202) 366-0907, Office of Marine Insurance, Maritime Administration, 1200 New Jersey Ave. SE, Washington, DC 20590, Email: Cameryn.miller@dot.gov.

SUPPLEMENTARY INFORMATION:

Title: War Risk Insurance, Applications, and Related Information.

OMB Control Number: 2133-0011.

Type of Request: Renewal of a previously approved information collection.

Abstract: As authorized by section 1202, Title XII, Merchant Marine Act, 1936, as amended, (46 U.S.C. 53901-53912) (Act), the Secretary of the U.S. Department of Transportation may provide war risk insurance for national defense or waterborne commerce if such insurance cannot be obtained on reasonable terms and conditions from companies authorized to operate an insurance business within any state of the United States.

Respondents: Vessel owners or charterers interested in participating in MARAD's War Risk Insurance Program.

Affected Public: Business or other for profit.

Estimated Number of Respondents: 20.

Estimated Number of Responses: 20.

Estimated Hours per Response: 12.8.

Annual Estimated Total Annual Burden Hours: 256.

Frequency of Response: Annually.

(Authority: The Paperwork Reduction Act of 1995; 44 U.S.C. Chapter 35, as amended; and 49 CFR 1.49.)

* * * * *

By Order of the Maritime Administrator.
T. Mitchell Hudson, Jr.,
Secretary, Maritime Administration.

[FR Doc. 2023-23369 Filed 10-20-23; 8:45 am]

BILLING CODE 4910-81-P